ENVIRONMENTAL PROTECTION AGENCY

[ER-FRL-6652-3]

Environmental Impact Statements; Notice of Availability

Responsible Agency: Office of Federal Activities, General Information (202) 564 7167 or http://www.epa.gov/compliance/nepa/.

Weekly receipt of Environmental Impact Statements

Filed June 1, 2004, Through June 4, 2004,

Pursuant to 40 CFR 1506.9.

EIS No. 040261, DRAFT EIS, BLM, CO, Northern San Juan Basin Coal Bed Methane Project, Proposed to Drill Approximately 300 Well to Produce Natural Gas from Coal Beds on Federal, State and Private Owned Lands, Special-Use-Permit, Application for Permit to Drill and U.S. Army COE Section 404 Permit, LaPlata and Archulea Counties, CO, Comment Period Ends: September 13, 2004, Contact: Walt Brown (970) 385-1372. The Department of the Interior's Bureau of Land Management and the U.S. Department of Agriculture's Forest Service are Joint Lead Agencies for the above Project.

EIS No. 040262, FINAL EIS, FHW, NC, Second Bridge to Oak Island Transportation Improvement Project, SR-1104 (Beach Drive) to NC-211, Funding, U.S. Army COE Section 404 and U.S. Coast Guard Bridge Permits Issuance, Brunswick County, NC, Wait Period Ends: July 12, 2004, Contact: John F. Sullivan (919) 856-4346.

EIS No. 040263, DRAFT EIS, HUD, CA, Marysville Hotel Demolition Project, Proposed Acquisition and Demolition of Building, City of Marysville, Yuba County, CA, Comment Period Ends: July 26, 2004, Contact: Gary Price (530) 749-3904.

EIS No. 040264, FINAL EIS, AFS, CO, Upper Blue Stewardship Project, Vegetation Management, Travel Management, and Dispersed Camping Sites Designation, Implementation, U.S. Army COE 404 Permit, White River National Forest, Dillon Ranger District, Summit County, CO, Wait Period Ends: July 12, 2004, Contact: Peech Keller (970) 262-3495.

EIS No. 040265, FINAL EIS, AFS, PA, Spring Creek Project Area (SCPA), To Achieve and Maintain Desired Conditions, Allegheny National Forest, Marienville Ranger District, Elk and Forest Counties, PA, Wait Period Ends: July 12, 2004, Contact: Kevin Treese (814) 776-6172.

EIS No. 040266, FINAL EIS, BLM, WY, West Hay Creek Coal Lease Application, Federal Coal Leasing, Buckskin Mine, Powder River Basin, Campbell County, WY, Wait Period Ends: July 12, 2004, Contact: Patricia Karbs (307) 261-7612. This document is available on the Internet at: http://www.wy.blm.gov/nepa/.

EIS No. 040267, FINAL EIS, COE, NM, Closure of the Al Black Recreation Area at the Cochiti Lake Dam Outlet Works, Implementation, Sandoval County, NM, Wait Period Ends: July 12, 2004, Contact: Ernest Jahnke (505) 342-3416.

EIS No. 040268, DRAFT EIS, NPS, CA, Santa Monica Mountains National Recreation Area, Fire Management Plan, Implementation, Santa Monica Mountains, CA, Comment Period Ends: September 15, 2004, Contact: Marty O'Toole (805) 370-2364.

EIS No. 040269, FINAL EIS, FRC, OR, Pelton Round Butte Hydroelectric Project, (FERC No. 2030-036), Application for a New License for Existing 366.82-megawatt Project, Deschutes River, OR, Wait Period Ends: July 12, 2004, Contact: Nicholas JayJack (202) 502-8902.

EIS No. 040270, DRAFT EIS, AFS, ID, American and Crooked Rivers Project, Improve Forest Health and Reduce Hazardous Fuels, Implementation, Nez Perce National Forest, Red River Ranger District, Idaho County, ID, Comment Period Ends: July 26, 2004, Contact: Phil Jahn (208) 983-1950.

Amended Notices

EIS No. 040170, DRAFT EIS, NOA, WA, OR, Puget Sound Chinook Harvest Resource Management Plan (RMP) 2004-2009, Implementation, Endangered Species Act, OR and WA, Comment Period Ends: July 1, 2004, Contact: Susan Bishop (206) 526-4587. Revision of FR Notice Published on 4/16/2004: CEQ Comment Period Ending on 06/1/2004 has been Extended to 7/01/2004.

EIS No. 040204, DRAFT EIS, FHW, NJ, Cross Harbor Freight Movement Project, Improve the Movements of Goods Throughout Northern New Jersey and Southern New York, Funding, Kings, Richmond, Queens, New York Counties, NJ, Comment Period Ends: September 30, 2004, Contact: Richard Backlund (212) 668-2205. Revision of FR Notice Published on 5/7/2004: CEQ Comment Period Ending 7/6/2004 has been Extended to 9/30/2004.

EIS No. 040241, FINAL EIS, USA, HI, Transformation of the 2nd Brigade, 25th Infantry Division (Light) to a Stryker Brigade Combat Team in Hawai'i, Implementation, Honolulu and Hawai'i Counties, HI , Wait Period Ends: July 6, 2004, Contact: Cindy Barger (808) 438-4812. Revision of FR Notice Published on 6/4/2004: Correction to Wait Period from 6/28/2004 to 07/06/2004

Dated: June 7, 2004.
Ken Mittelholtz,
Environmental Protection Specialist, Office of Federal Activities.

[FR Doc. 04-13152 Filed 6-9-04; 8:45 am]

BILLING CODE 6560-50-P